DEPARTMENT OF HOUSING AND URBAN DEVELOPMENT

[Docket No. FR-5484-N-27]

Notice of Proposed Information Collection: Comment Request; Energy Efficient Mortgages (EEMs)

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: October 4, 2011.

ADDRESSES: Interested persons are invited to submit comments regarding this proposal. Comments should refer to the proposal by name and/or OMB Control Number and should be sent to: Reports Liaison Officer, Department of Housing and Urban Development, 451 7th Street, SW., Washington, DC 20410, Room 9120 or the number for the Federal Information Relay Service (1-800-877-8339).

FOR FURTHER INFORMATION CONTACT: Arlene Nunes, Acting Director, Home Mortgage Insurance Division, Office of Single Family Program Development, Department of Housing and Urban Development, 451 7th Street, SW., Washington, DC 20410, telephone (202) 708-2121 (this is not a toll free number) for copies of the proposed forms and other available information.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Energy Efficient Mortgages.

OMB Control Number, if applicable: 2502-0561.

Description of the need for the information and proposed use: Section 106 of the Energy Policy Act of 1992 (42 U.S.C. 1721 Section 106 of the Energy Policy Act of 1992 (42 U.S.C 12712) provides the Department of Housing and Urban Development, Federal Housing Administration (FHA), with the authority to insure mortgages where the costs of energy efficient improvements are incorporated into the mortgage. To be eligible, the statute requires that the improvements be cost effective, which are determined pursuant to a Home Energy Rating Systems (HERS) Report. The statute also defines cost effective as the total cost of the improvements (including any maintenance and repair expenses) that is less than the total present value of the energy saved over the useful life of the improvement. Section 2123 of the Housing Economic Recovery Act of 2008 (HERA) (Public Law 110-289, approved July 30, 2008)) amended Section 106 of the Energy Policy Act of 1992 which revised the maximum additional dollar amount that can be added to an FHA insured mortgage for energy efficient improvements. Lenders are responsible for reviewing the documents submitted and determining the cost effectiveness of the improvements so these costs can be added to the base loan amount. The borrower cannot obtain an EEM without providing this information. Specifically, the information includes:

a. The Home Energy Rating (HERS) Report, completed by the energy rater or consultant, which describes the energy improvements that can be made to the home. Guidance provided to the lender for determining the cost effectiveness of the energy package.

b. An attestation of the Direct Endorsement Underwriter for TOTAL Scorecard, which requires an underwriter to attest on the Underwriting and Transmittal Summary or the Mortgage Credit Analysis Worksheet that the determinations have been made regarding the energy improvements and finds the mortgage and the property to be in compliance with FHA's guidelines.

c. Information that the work has been completed and the escrow account has been cleared.

Agency form numbers, if applicable: None.

Estimation of the total numbers of hours needed to prepare the information collection including number of respondents, frequency of response, and hours of response: The frequency of response is based on the review and certifications required per loan and the total number of burden hours for entry is 4-1/4 hours per endorsed case from origination to closeout. The total number of responses is 1,320 which represent the total number of FHA cases endorsed for EEMs. The total number of burden hours is estimated at 5,610 which represent the time required to review and certify documents for EEMs insured.

Status of the proposed information collection: This is an extension of OMB Control No. 2502-0561.

Authority: The Paperwork Reduction Act of 1995, 44 U.S.C., Chapter 35, as amended.

Dated: August 2, 2011.
Ronald Y. Spraker,
Associate General Deputy Assistant Secretary for Housing-Associate Deputy Federal Housing Commissioner.

[FR Doc. 2011-19926 Filed 8-4-11; 8:45 am]

BILLING CODE 4210-67-P